DEPARTMENT OF AGRICULTURE

Rural Utilities Service

Minnkota Power Cooperative, Inc.: Notice of Intent To Hold Public Scoping Meetings and Prepare an Environmental Assessment

AGENCY: Rural Utilities Service, USDA.

ACTION: Notice of intent to hold public scoping meetings and prepare an Environmental Assessment.

SUMMARY: The Rural Utilities Service (RUS) intends to hold public scoping meetings and prepare an Environmental Assessment with Scoping (EA) to meet its responsibilities under the National Environmental Policy Act (NEPA) and 7 CFR part 1794 in connection with potential impacts related to a proposed project by Minnkota Power Cooperative, Inc. (Minnkota). The proposed Center to Grand Forks Transmission Line Project (proposed action) consists of: the construction of approximately 260 miles of 345 kilovolt (kV) transmission line from Center to Grand Forks, North Dakota; upgrades at the Center 345 kV substation; upgrades at the Square Butte 230 kV Substation; an additional 230 kV tie line; and upgrades at the Prairie Substation and fiber optic regeneration stations. Minnkota is requesting that RUS provide financial assistance for the proposed action.

DATES: RUS will conduct public scoping meetings in an open house format to provide information and solicit comments for the preparation of the EA. Scoping meetings will be held on the following dates: Grand Forks, ND, Alerus Center, Eagle Room 10, 1200 S. 42nd St., Monday, November 16, 2009, 5-8 p.m.; Cooperstown, ND, Cooperstown City Hall, 611 9th St., Tuesday, November 17, 2009, 10 a.m.-1 p.m.; Carrington, ND, Chieftain Conference Center, Tee Pee Room 60, 4th Avenue S., Tuesday, November 17, 2009, 5:00-8:00 pm; McClusky, ND, McClusky Community Hall, 117 Avenue B North, Wednesday, November 18, 2009, 10 a.m.-1 p.m.; Wilton, ND, City of Wilton Memorial Hall, 105 Dakota Avenue, Wednesday, November 18, 2009, 5-8 p.m.; and Center, ND, Center Civic Center Building, 312 N Lincoln Ave., Thursday, November 19, 2009, 5-8 p.m.

ADDRESSES: To send comments or request additional information, contact: Mr. Dennis Rankin, Environmental Protection Specialist, USDA, Rural Utilities Service, 1400 Independence Avenue, SW., Stop 1571, Washington, DC 20250-1571, telephone: (202) 720-1953 or e-mail: dennis.rankin@wdc.usda.gov. An Alternative Evaluation Study (AES) and a Macro Corridor Study (MCS) has been prepared for the proposed project. All documents are available for public review prior to and during the public scoping meetings. The reports are available at the RUS address provided in this notice and on the agency's Web site at: http://www.usda.gov/rus/water/ees/ea.htm., the offices of Minnkota Power Cooperative, Inc. and their Web site at: http://www.minnkota.com; and the following repositories: Aneta Public Library, 11995 19th St., Aneta, ND 58212-0088; Bismarck's Veterans Memorial Library, 515 N. 5th St., Bismarck, ND 58501-4057; Oliver County Auditor, 115 West Main, Center, ND 58530; City of Carrington Library, 55 9th Ave., Carrington, ND 58421-2017; Griggs County Library, 902 Burrel Ave., Cooperstown, ND 58425-0546; Goodrich Public Library, 122 McKinley Ave., Goodrich, ND 58444-0175; Grand Forks Library, 2110 Library Circle, Grand Forks, ND 58201-6324; Harvey Public Library, 119 10th St., Harvey, ND 58341-1531; Mayville Library, 52 Center Ave., Mayville, ND 58257-1299; Sheridan County Auditor, 215 East 2nd St., McClusky, ND 58356-1510; New Rockford Public Library, 811 First Ave. N, New Rockford, ND 58356-1510; Turtle Lake Public Library, 107 Eggert St., Turtle Lake, ND 58575-0540; Washburn Public Library, 705 Main Ave., Washburn, ND 58577-0637; and Northwood Public Schools and City Library, 300 35th St., Northwood, ND 58267.

SUPPLEMENTARY INFORMATION: The purpose of the proposed action is to reallocate energy presently transmitted on an existing direct current (DC) line to the proposed 345 kV line. Currently, the output from the Milton R. Young Generation Station Unit 2 (Young 2) is purchased under contract by Minnkota and Minnesota Power; each utility receives approximately 50 percent of the output. Electricity generated by Young 2 flows over a dedicated DC, 465-mile transmission line from Center, North Dakota to Duluth, Minnesota, where it is converted back to alternating current (AC) for further transmission into the Minnesota Power and Minnkota service areas. Minnesota Power will take 100 percent ownership of the existing DC line and DC/AC conversion facilities in early 2010; the DC line will be used to deliver wind energy. In 2013, Minnkota will receive increasing allocations of Young 2 output until the year 2026 when Minnkota will purchase 100 percent of the Young 2 output. With no continuous capacity available to Minnkota on the HVDC system, the power needs be moved over the AC transmission system to Minnkota's service territory.

Minnkota is seeking financing from RUS for its ownership of the proposed project. Before making a decision to provide financing for the proposed project, RUS is required to conduct an environmental review under NEPA in accordance with RUS's Environmental Policies and Procedures (7 CFR Part 1794). Government agencies, private organizations, and the public are invited to participate in the planning and analysis of the proposed action. Representatives from RUS and Minnkota will be available at the scoping meetings to discuss the environmental review process, describe the proposed action, discuss the scope of environmental issues to be considered, answer questions, and accept comments. RUS will use comments and input provided in the preparation of the Draft EA. If RUS finds, based on the EA, that the proposed action will not have a significant effect on the quality of the human environment, RUS will prepare a Finding of No Significant Impact (FONSI). Public notification of the FONSI would be published in the Federal Register and in newspapers with circulation in the project area. RUS may take its final action on proposed actions requiring an EA (§ 1794.23) any time after publication of applicant notices that a FONSI has been made and any required review period has expired. When substantive comments are received on the EA, RUS may provide an additional period (15 days) for public review following the publication of its FONSI determination. Final action will not be taken until this review period has expired. Where appropriate to carry out the purposes of NEPA, RUS may impose, on a case-by-case basis, additional requirements associated with the preparation of an EA. If at any point in the preparation of an EA, RUS determines that the proposed action will have a significant effect on the quality of the human environment, the preparation of an Environmental Impact Statement will be required. Any final action by RUS related to the proposed action will be subject to, and contingent upon, compliance with all relevant Federal, State, and local environmental laws and regulations and completion of the environmental review requirements as prescribed in RUS's Environmental Policies and Procedures (7 CFR Part 1794).

Dated: October 23, 2009.
Mark S. Plank,
Director, Engineering and Environmental Staff, Rural Utilities Service.

[FR Doc. E9-26146 Filed 10-29-09; 8:45 am]

BILLING CODE P